DEPARTMENT OF DEFENSE

Department of the Army

Board of Visitors for the U.S. Army Command and General Staff College Meeting Notice

AGENCY: Department of the Army, Department of Defense (DoD).

ACTION: Notice of open meeting.

SUMMARY: The Department of the Army is publishing this notice to announce the following Federal Advisory Committee meeting of the Board of Visitors for the U.S. Army Command and General Staff College (CGSC), Fort Leavenworth, KS. This meeting is open to the public.

DATES: The Board of Visitors will meet from 8:30 a.m. to 4:30 p.m. on Monday, March 3, 2025, and Thursday, March 4, 2025. The Board of Visitors will meet from 8:30 a.m. to 11:00 a.m. on Wednesday, March 5, 2025.

ADDRESSES: Lewis and Clark Center, 100 Stimson Ave., Fort Leavenworth, KS 66027.

FOR FURTHER INFORMATION CONTACT: Dr. Dale Spurlin, Alternate Designated Federal Officer for the Committee, by email at dale.f.spurlin.civ@army.mil, or by telephone at (913) 684-2742.

SUPPLEMENTARY INFORMATION: The committee meeting is being held under the provisions of the Federal Advisory Committee Act of 1972 (5 U.S.C., Appendix, as amended), the Government in the Sunshine Act of 1976 (5 U.S.C. 552b, as amended), 41 CFR 102-3.140(c), and 41 CFR 102-3.150.

Purpose of the Meeting: The Board of Visitors for the U.S. Army Command and General Staff College (CGSC) is a subcommittee of the Army Education Advisory Committee—a non-discretionary Federal Advisory Committee. The CGSC Board of Visitors is chartered to provide the Secretary of Defense, through the Secretary of the Army, independent advice and recommendations on matters pertaining to the Command and General Staff College's mission, specifically academic policies, staff and faculty development, student success indicators, curricula, educational methodology and objectives; other matters relating to the CGSC that the board decides to consider; and other items that the Secretary of Defense determines appropriate. The board provides expert and continuous advice on ways to improve the CGSC educational program, especially with regard to is master's degree programs and the maintenance of regional academic accreditation by the Higher Learning Commission. The Secretary of Defense may act on the committee's advice and recommendations.

Agenda: Overview briefing from the CGSC Dean of Academics; updates on and observations of CGSC operations, curricula, and educational initiatives; briefing and discussion on current challenges within the CGSC; and presentation of other information appropriate to the board and CGSC interests.

Public Accessibility to the Meeting: Pursuant to 5 U.S.C. 552b, as amended, and 41 CFR 102-3.140 through 102-3.165, and subject to the availability of space, this meeting is open to the public. A 30-minute period between 10:30 a.m.to 11:00 a.m. on March 5, 2025, will be available for verbal public comments. Seating is on a first to arrive basis. Attendees are requested to submit their name, affiliation, and daytime phone number seven business days prior to the meeting to Dr. Spurlin, via electronic mail at the address listed in the FOR FURTHER INFORMATION CONTACT section. Because the meeting of the committee will be held in a Federal Government facility on a military base, security screening is required. A photo ID is required to enter the base. Please note that security and gate guards have the right to inspect vehicles and persons seeking to enter and exit the installation. The Lewis and Clark Center is fully handicap accessible. Wheelchair access is available in front at the main entrance of the building. For additional information about public access procedures, contact Dr. Spurlin at the email address or telephone number listed in the FOR FURTHER INFORMATION CONTACT section.

Written Comments and Statements: Pursuant to 41 CFR 102-3.105(j) and 102-3.140 and section 10(a)(3) of the Federal Advisory Committee Act, the public or interested organizations may submit written comments or statements to the committee, in response to the stated agenda of the open meeting or regarding the committee's mission in general. Written comments or statements should be submitted to Dr. Spurlin via electronic mail at the address listed in the FOR FURTHER INFORMATION CONTACT section. Written comments or statements being submitted in response to the agenda set forth in this notice must be received at least five business days prior to the meeting to be considered by the committee. The Designated Federal Officer will review all timely submitted written comments or statements with the committee chairperson, and ensure the comments are provided to all members of the committee before the meeting. Written comments or statements received after this date will be filed and presented to the committee during its next meeting.

James W. Satterwhite, Jr.
Army Federal Register Liaison Officer.

[FR Doc. 2025-02311 Filed 2-5-25; 8:45 am]

BILLING CODE 3711-CC-P